NUCLEAR REGULATORY COMMISSION

Advisory Committee on Reactor Safeguards; Meeting Notice

In accordance with the purposes of Sections 29 and 182b. of the Atomic Energy Act (42 U.S.C. 2039, 2232b), the Advisory Committee on Reactor Safeguards will hold a meeting on May 11-13, 2000, in Conference Room T-2B3, 11545 Rockville Pike, Rockville, Maryland. The date of this meeting was previously published in the Federal Register on Thursday, October 14, 1999 (64 FR 55787).

Thursday, May 11, 2000

8:30 A.M.-8:35 A.M.: Opening Remarks by the ACRS Chairman (Open)—The ACRS Chairman will make opening remarks regarding the conduct of the meeting.

8:35 A.M.-10 A.M.: Initiatives Related to Risk-Informed Technical Specifications (Open)—The Committee will hear presentations by and hold discussions with representatives of the NRC staff and industry groups regarding initiatives related to risk-informed technical specifications, initial industry submittals on risk-informed technical specifications, and related matters.

10:15 A.M.-11:45 A.M.: Potential Revisions to the Pressurized Thermal Shock (PTS) Acceptance Criterion (Open)—The Committee will hear presentations by and hold discussions with representatives of the NRC staff regarding a draft Commission Paper that describes potential revisions to the PTS acceptance criterion.

12:45 P.M.-2:15 P.M.: Proposed Revision to Regulatory Guide 1.174, “An Approach for Using Probabilistic Risk Assessment in Risk-Informed Decisions on Plant-Specific Changes to the Licensing Basis” (Open)—The Committee will hear presentations by and hold discussions with representatives of the NRC staff regarding proposed revisions to Regulatory Guide 1.174 and associated guidance on the use of risk information in license amendment reviews.

2:30 P.M.-4:00 P.M.: Proposed Regulatory Guide and Standard Review Plan (SRP) Section Associated with NRC Code Reviews (Open)—The Committee will hear presentations by and hold discussions with representatives of the NRC staff regarding proposed Regulatory Guide and SRP Section associated with the NRC staff's review of the analytical codes.

4 P.M.-5 P.M.: Break and Preparation of Draft ACRS Reports (Open)—Cognizant ACRS members will prepare draft reports for consideration by the full Committee.

5 P.M.-7 P.M.: Discussion of Proposed ACRS Reports (Open)—The Committee will discuss a proposed ACRS report on matters considered during this meeting. In addition, the Committee will discuss a proposed ACRS report on the Human Performance Program.

Friday, May 12, 2000

8:30 A.M.-8:35 A.M.: Opening Remarks by the ACRS Chairman (Open)—The ACRS Chairman will make opening remarks regarding the conduct of the meeting.

8:35 A.M.-10 A.M.: SECY-00-0062, Risk-Informed Regulation Implementation Plan (Open)—The Committee will hear presentations by and hold discussions with representatives of the NRC staff regarding a risk-informed regulation implementation plan described in SECY-00-0062.

10:15 A.M.-11:30 A.M.: Operating Event at E.I. Hatch Nuclear Power Plant, Unit 1 (Open)—The Committee will hear presentations by and hold discussions with representatives of the NRC staff regarding the findings and recommendations of the Augmented Inspection Team, which investigated the January 26, 2000 reactor trip event at E.I. Hatch Nuclear Power Plant, Unit 1.

11:30 A.M.-11:45 A.M.: Reconciliation of ACRS Comments and Recommendations (Open)—The Committee will discuss the responses from the NRC Executive Director for Operations (EDO) to comments and recommendations included in recent ACRS reports and letters. The EDO responses are expected to be made available to the Committee prior to the meeting.

12:45 P.M.-2:15 P.M.: Physical Security Requirements for Power Reactors (Open/Closed)—The Committee will hear presentations by and hold discussions with representatives of the NRC staff regarding the status of revising the physical security requirements for power reactors by incorporating insights gained from threat assessment activities being conducted by the staff in coordination with other Federal agencies.

Note: A portion of this session will be closed to discuss safeguards information.

2:30 P.M.-2:45 P.M.: Future ACRS Activities (Open)—The Committee will discuss the recommendations of the Planning and Procedures Subcommittee regarding items proposed for consideration by the full Committee during future meetings.

2:45 P.M.-3:30 P.M.: Report of the Planning and Procedures Subcommittee (Open)—The Committee will hear a report of the Planning and Procedures Subcommittee on matters related to the conduct of ACRS business.

3:30 P.M.-4:30 P.M.: Break and Preparation of Draft ACRS Reports (Open)—Cognizant ACRS members will prepare draft reports for consideration by the full Committee.

4:30 P.M.-7 P.M.: Discussion of Proposed ACRS Reports (Open)—The Committee will discuss proposed ACRS reports.

Saturday, May 13, 2000

8:30 A.M.-2 P.M.: Discussion of Proposed ACRS Reports (Open)—The Committee will continue its discussion of proposed ACRS reports.

1:30 P.M.-2 P.M.: Miscellaneous (Open)—The Committee will discuss matters related to the conduct of Committee activities and matters and specific issues that were not completed during previous meetings, as time and availability of information permit.

Procedures for the conduct of and participation in ACRS meetings were published in the Federal Register on September 28, 1999 (64 FR 52353). In accordance with these procedures, oral or written views may be presented by members of the public, including representatives of the nuclear industry. Electronic recordings will be permitted only during the open portions of the meeting and questions may be asked only by members of the Committee, its consultants, and staff. Persons desiring to make oral statements should notify Mr. Sam Duraiswamy, ACRS, five days before the meeting, if possible, so that appropriate arrangements can be made to allow necessary time during the meeting for such statements. Use of still, motion picture, and television cameras during this meeting may be limited to selected portions of the meeting as determined by the Chairman. Information regarding the time to be set aside for this purpose may be obtained by contacting Mr. Sam Duraiswamy prior to the meeting. In view of the possibility that the schedule for ACRS meetings may be adjusted by the Chairman as necessary to facilitate the conduct of the meeting, persons planning to attend should check with Mr. Sam Duraiswamy if such rescheduling would result in major inconvenience.

In accordance with Subsection 10(d) P.L. 92-463, I have determined that it is necessary to close a portion of this meeting noted above to discuss safeguards information per 5 U.S.C. 552b(c)(3).

Further information regarding topics to be discussed, whether the meeting has been canceled or rescheduled, the Chairman's ruling on requests for the opportunity to present oral statements and the time allotted therefor, can be obtained by contacting Mr. Sam Duraiswamy (telephone 301/415-7364), between 7:30 a.m. and 4:15 p.m., EDT.

ACRS meeting agenda, meeting transcripts, and letter reports are available for downloading or viewing on the internet at http://www.nrc.gov/ACRSACNW.

Videoteleconferencing service is available for observing open sessions of ACRS meetings. Those wishing to use this service for observing ACRS meetings should contact Mr. Theron Brown, ACRS Audio Visual Technician (301-415-8066), between 7:30 a.m. and 3:45 p.m., EDT, at least 10 days before the meeting to ensure the availability of this service. Individuals or organizations requesting this service will be responsible for telephone line charges and for providing the equipment facilities that they use to establish the videoteleconferencing link. The availability of videoteleconferencing services is not guaranteed.

Date: April 17, 2000.
Andrew L. Bates,
Advisory Committee Management Officer.

[FR Doc. 00-9960 Filed 4-20-00; 8:45 am]

BILLING CODE 7590-01-P